DEPARTMENT OF TRANSPORTATION

Federal Aviation Administration

Aging Transport Systems Rulemaking Advisory Committee; Meeting

AGENCY: Federal Aviation Administration (FAA), DOT.

ACTION: Notice of public meeting.

SUMMARY: This notice announces a public meeting of the FAA's Aging Transport Systems Rulemaking Advisory Committee.

DATES: The meeting will be held July 19-20, 2000, beginning at 9 a.m. on July 19. Arrange for oral representations by July 12.

ADDRESSES: The meeting will be at the Bessie Coleman Conference Center, Federal Aviation Administration, 800 Independence Ave., SW., Washington, DC.

FOR FURTHER INFORMATION CONTACT: Terry K. Stubblefield, Office of Rulemaking, ARM-208, FAA, 800 Independence Avenue, SW., Washington, DC 20591, Telephone (202) 267-7624, FAX (202) 267-5075.

SUPPLEMENTARY INFORMATION: Notice is hereby given of a meeting of the Aging Transport Systems Rulemaking Advisory Committee in the Bessie Coleman Conference Center, Federal Aviation Administration, 800 Independence Ave., SW., Washington, DC.

The agenda will include:

Day 1

• Opening remarks.

• Working group reports, review and vote.

• Task 1 (Sampling Inspection of the fleet) and Task 2 (Review of fleet service history) review and vote on recommendations

• Task 3 (Improvement of maintenance criteria) review

• Task 4 (Review and update standard practices for wiring) review and vote on recommendations

• Task 5 (Review air carrier and repair station training programs) review

• Determine action plan related to mixing wire types in bundles; all presentations optional

Day 2

• Status of arc fault circuit interrupter development by Industry Contractors

• Status of arc fault circuit interrupters program

• Overview of circuit breaker research

• Discussion of SDR Analysis and Normalization on Non-electric Systems

• Intrusive inspections status report

Attendance is open to the interested public but will be limited to the space available. The public must make arrangements by July 12, 2000, to present oral statements at the meeting. The public may present written statements to the committee at any time by providing 20 copies to the Executive Director, or by bringing the copies to him at the meeting. Public statements will only be considered if time permits. In addition, sign and oral interpretation as well as a listening device can be made available if requested 10 calendar days before the meeting.

Issued in Washington, DC on June 26, 2000.
Anthony F. Fazio,
Director, Office of Rulemaking.

[FR Doc. 00-16667 Filed 6-29-00; 8:45 am]

BILLING CODE 4916-13-M